SUSQUEHANNA RIVER BASIN COMMISSION

Projects Approved for Consumptive Uses of Water

AGENCY: Susquehanna River Basin Commission.

ACTION: Notice.

SUMMARY: This notice lists the projects approved by rule by the Susquehanna River Basin Commission during the period set forth in “DATES.”

DATES: November 1-30, 2016.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. Inflection Energy (PA), LLC, Pad ID: Stunner, ABR-201111037.R1, Gamble and Eldred Townships, Lycoming County, Pa.; Consumptive Use of Up to 4.0000 mgd; Approval Date: November 7, 2016.

2. Inflection Energy (PA), LLC, Pad ID: Nature Boy East, ABR-201203010.R1, Upper Fairfield Township, Lycoming County, Pa.; Consumptive Use of Up to 4.0000 mgd; Approval Date: November 7, 2016.

3. EXCO Resources (PA), LLC, Pad ID: Farnsworth Unit 1H Pad, ABR-201111038.R1, Franklin Township, Lycoming County, Pa.; Consumptive Use of Up to 8.0000 mgd; Approval Date: November 9, 2016.

4. SWEPI LP, Pad ID: Chappell 855, ABR-201110009.R1, Middlebury Township, Tioga County, Pa.; Consumptive Use of Up to 4.0000 mgd; Approval Date: November 9, 2016.

5. Chief Oil & Gas LLC, Pad ID: King Drilling Pad #1, ABR-201205007.R1, Towanda Township, Bradford County, Pa.; Consumptive Use of Up to 2.0000 mgd; Approval Date: November 10, 2016.

6. Chief Oil & Gas LLC, Pad ID: Ambrosius Drilling Pad #1, ABR-201205004.R1, Wilmot Township, Bradford County, Pa.; Consumptive Use of Up to 2.0000 mgd; Approval Date: November 14, 2016.

7. Chief Oil & Gas LLC, Pad ID: D & J Farms Drilling Pad #1, ABR-201204004.R1, Sheshequin Township, Bradford County, Pa.; Consumptive Use of Up to 2.0000 mgd; Approval Date: November 17, 2016.

8. SWN Production Company, LLC, Pad ID: LOCH, ABR-201112031.R1, Cogan House Township, Lycoming County, Pa.; Consumptive Use of Up to 4.9990 mgd; Approval Date: November 17, 2016.

9. SWN Production Company, LLC, Pad ID: FLICKS RUN, ABR-201201011.R1, Cogan House Township, Lycoming County, Pa.; Consumptive Use of Up to 4.9990 mgd; Approval Date: November 17, 2016.

10. Chief Oil & Gas LLC, Pad ID: Yanavitch Drilling Pad #1, ABR-201204003.R1, Stevens Township, Bradford County, Pa.; Consumptive Use of Up to 2.0000 mgd; Approval Date: November 22, 2016.

11. Chief Oil & Gas LLC, Pad ID: Polowy Drilling Pad #1, ABR-201205008.R1, Ulster Township, Bradford County, Pa.; Consumptive Use of Up to 2.0000 mgd; Approval Date: November 28, 2016.

12. Talisman Energy USA, Inc., Pad ID: Bucks Hill, ABR-201112019.R1, LeRaysville Borough, Bradford County, Pa.; Consumptive Use of Up to 7.5000 mgd; Approval Date: November 28, 2016.

13. Chesapeake Appalachia, LLC, Pad ID: Hart, ABR-201205009.R1, Wyalusing Township, Bradford County, Pa.; Consumptive Use of Up to 7.5000 mgd; Approval Date: November 29, 2016.

Authority: Pub. L. 91-575, 84 Stat. 1509 et seq., 18 CFR parts 806, 807, and 808.

Dated: December 21, 2016.
Stephanie L. Richardson,
Secretary to the Commission.

[FR Doc. 2016-31260 Filed 12-27-16; 8:45 am]

BILLING CODE 7040-01-P